DEPARTMENT OF AGRICULTURE

Food Safety and Inspection Service

[Docket No. 03-005N]

Listeria Risk Assessment Technical Meeting—Notice of Availability and Public Meeting

AGENCY: Food Safety and Inspection Service, USDA.

ACTION: Notice of availability and announcement of public meeting.

SUMMARY: The Food Safety and Inspection Service (FSIS) is announcing the availability of, and requesting public comment on, its draft risk assessment for Listeria in deli- and hot dog-type meat and poultry products that are exposed to the environment post-lethality. FSIS conducted this risk assessment, addressing both Listeria monocytogenes and Listeria species (spp), to examine the effectiveness of testing food contact surfaces and sanitation on product contamination and the subsequent risk of illness, and to evaluate the effectiveness of other interventions (e.g., post-processing interventions). In addition, the frequency of testing food contact surfaces, as proposed in the proposed rule on Performance Standards for the Production of Processed Meat and Poultry Products, was specifically addressed.

FSIS also is holding a public meeting to discuss the technical design and assumptions that were used to create this draft risk assessment.

DATES: The public meeting is scheduled for Wednesday, February 26, 2003. The meeting will be held from 9 a.m. to 4:30 p.m. The draft risk assessment will be available in the FSIS docket room (address below) and will be posted to the FSIS Web site at http://www.fsis.usda.gov on or before February 14, 2003.

Submit written comments on the draft risk assessment on or before February 21, 2003.

ADDRESSES: The public meeting will be held at the Washington Plaza Hotel, 10 Thomas Circle, Washington, DC 20005. Telephone: (202) 842-1300.

A tentative agenda is available in the FSIS docket room (address below) and on the FSIS Web site at http://www.fsis.usda.gov/OPPDE/rdad/Notices02.htm

Please send written comments on the draft risk assessment to the FSIS Docket Room, Docket 03-005N, U.S. Department of Agriculture, Food Safety and Inspection Service, Room 102 Cotton Annex, 300 12th Street, SW., Washington, DC 20250-3700. All comments and the official transcript of the meeting, when they become available, will be available for viewing in the FSIS docket room.

FOR FURTHER INFORMATION CONTACT: Moshe Dreyfuss at (202) 205-0260. Registration for the meeting will be on-site. No pre-registration will be accepted. Persons requiring a sign language interpreter should notify Ms. Sheila Johnson by February 12, 2003 at (202) 690-6498. Notify Ms. Johnson as soon as possible if other special accommodations are required.

SUPPLEMENTARY INFORMATION:

Background

FSIS administers the Federal Meat Inspection Act, the Poultry Products Inspection Act, and the Egg Products Inspection Act. The Agency's activities are intended to prevent the distribution in domestic and foreign commerce, as human food, of unwholesome, adulterated, or misbranded meat, poultry, and egg products, including products that may transmit diseases or that may be otherwise injurious to health.

On February 27, 2001, (66 FR 12589) FSIS issued proposed regulations to require that each establishment that produces ready-to-eat meat and poultry products test food contact surfaces for Listeria spp., in order to verify the efficacy of its sanitation standard operating procedures, unless it has incorporated one or more controls for Listeria monocytogenes into its HACCP plan. Under the proposed regulations, food contact surface positives for Listeria would trigger mandatory product testing. In November 2002, FSIS issued a directive outlining additional steps to be taken by U.S. Department of Agriculture inspectors to ensure that establishments producing ready-to-eat meat and poultry products are taking the necessary steps to prevent contamination with Listeria.

FSIS has recently completed an extensive, scientific risk assessment on Listeria to determine how the pathogen may contaminate meat and poultry products during production and packaging processes. The draft risk assessment will provide important additional data that the Agency will use in developing a final regulation concerning the reduction and control of Listeria in processing plants producing ready-to-eat products, and a new directive to replace Directive 10,240.3 (Microbial Sampling of Ready To Eat Products for the FSIS Verification Testing Program), if appropriate, as a consequence of the final rule.

FSIS requests comment on this draft risk assessment and will hold a public meeting to discuss and seek input on it on February 26, 2003, at the Washington Plaza Hotel (See ADDRESSES above).

Additional Public Notification

Public awareness of all segments of rulemaking and policy development is important. Consequently, in an effort to better ensure that minorities, women, and persons with disabilities are aware of this notice, FSIS will announce it and make copies of this Federal Register publication available through the FSIS Constituent Update. FSIS provides a weekly Constituent Update, which is communicated via Listserv, a free e-mail subscription service. In addition, the update is available on-line through the FSIS web page located at http://www.fsis.usda.gov/oa/update/update.htm. The update is used to provide information regarding FSIS policies, procedures, regulations, Federal Register notices, FSIS public meetings, recalls, and any other types of information that could affect or would be of interest to our constituents/stakeholders. The constituent Listserv consists of industry, trade, and farm groups, consumer interest groups, allied health professionals, scientific professionals, and other individuals that have requested to be included. Through the Listserv and web page, FSIS is able to provide information to a much broader, more diverse audience.

For more information, contact the Congressional and Public Affairs Office, at (202) 720-9113. To be added to the free e-mail subscription service (Listserv) go to the “Constituent Update” page on the FSIS Web site at http://www.fsis.usda.gov/oa/update/update.htm. Click on the “Subscribe to the Constituent Update Listserv” link, then fill out and submit the form.

Done at Washington, DC, on: January 31, 2003.
Linda M. Swacina,
Associate Administrator.

[FR Doc. 03-2942 Filed 2-5-03; 8:45 am]

BILLING CODE 3410-DM-P